DEPARTMENT OF HOMELAND SECURITY

Coast Guard

[Docket Number USCG-2019-0862]

Port Access Route Study: Approaches to the Chesapeake Bay, Virginia

AGENCY: Coast Guard, DHS.

ACTION: Notice of availability of draft report; request for comments.

SUMMARY: On November 27, 2019 the Coast Guard published a notice of study and request for comments (84 FR 65398), announcing a Port Access Route Study (PARS) for the Approaches to the Chesapeake Bay, Virginia. This notice announces the availability of a draft report for public review and comment. We seek your comments on the content, proposed routing measures, and development of the report. The recommendations of the study may lead to future rulemakings or appropriate international agreements.

DATES: Your comments and related material must reach the Coast Guard on or before July 16, 2021.

ADDRESSES: You may submit comments identified by docket number USCG-2019-0862 using the Federal portal at https://www.regulations.gov. See the “Public Participation and Request for Comments” portion of the SUPPLEMENTARY INFORMATION section for further instructions on submitting comments.

FOR FURTHER INFORMATION CONTACT: If you have questions about this notice or study, call or email Mr. Jerry Barnes, Fifth Coast Guard District (dpw), U.S. Coast Guard; telephone (757) 398-6230, email Jerry.R.Barnes@uscg.mil; or Captain Maureen Kallgren, Fifth Coast Guard District (dpw), U.S. Coast Guard; telephone (757) 398-6250, email Maureen.R.Kallgren@uscg.mil.

SUPPLEMENTARY INFORMATION:

I. Table of Abbreviations

DHS Department of Homeland Security

FR Federal Register

NEPA National Environmental Policy Act

PARS Port Access Route Study

ACPARS Atlantic Coast Ports Access Route Study

U.S.C. United States Code

WEA Wind Energy Area

II. Background and Purpose

The Ports and Waterways Safety Act (46 U.S.C. 70003(c)) requires the Coast Guard to conduct a PARS, i.e., a study of potential traffic density and the need for safe access routes for vessels. Through the study process, the Coast Guard coordinates with Federal, State, local, tribal and foreign state agencies (as appropriate) to consider the views of maritime community representatives, environmental groups, and other interested stakeholders. The primary purpose of this coordination is, to the extent practicable, to reconcile the need for safe access routes with other reasonable waterway uses such as construction and operation of renewable energy facilities and other uses of the Atlantic Ocean in the study area.

In 2019, the Coast Guard announced a supplemental study of routes used by all vessels to access ports on the Atlantic Coast of the United States (84 FR 9541, March 15, 2019). This notice announced PARS for specific port approaches and international transit areas along the Atlantic Coast. The purpose of the supplemental studies is to align the Atlantic Coast Port Access Route Study (ACPARS) (81 FR 13307, March 14, 2016) with port approaches. The ACPARS analyzed the Atlantic Coast waters seaward of existing port approaches within the U.S. Exclusive Economic Zone and was finalized in 2017 (82 FR 16510, April 5, 2017).

The purpose of this notice is to announce the draft PARS that examines the approaches to the Chesapeake Bay, VA, in conjunction with the implementation of recommendations of the ACPARS, and to solicit public comments. We encourage you to participate in the study process by submitting comments in response to this notice. This supplemental PARS used AIS data and information from stakeholders to identify and verify customary navigation routes as well as potential conflicts involving alternative activities, such as wind energy generation and offshore mineral exploitation and exploration in the approaches to the Chesapeake Bay, Virginia.

On November 27, 2019, the Coast Guard published a Notice of Study; request for comments entitled “Port Access Route Study: Approaches to the Chesapeake Bay, Virginia” in the Federal Register (84 FR 65398). The public was afforded a 60-day comment period, and the option to request public meetings. The Coast Guard conducted outreach with port partners during this time. The comment period was closed on January 27, 2020.

The study area extends approximately 220 nautical miles seaward of the Chesapeake Bay, between Ocean City, MD, and Cape Hatteras, NC. An illustration showing the study area is available in the docket where indicated under ADDRESSES. Additionally, the study area is available for viewing on the Mid-Atlantic Ocean Data Portal at http://portal.midatlanticocean.org/visualize/. See the “Maritime” portion of the Data Layers section.

III. Discussion

PARS are the means by which program managers determine the need to establish traffic routing measures or shipping safety fairways to reduce the risk of collision, allision and grounding, and their impact on the environment, increase the efficiency and predictability of vessel traffic, and preserve the paramount right of navigation while continuing to allow for other reasonable waterway uses. The study analyzes current routing measures around the approaches to Chesapeake Bay and proposes an adequate way to manage the forecasted maritime traffic growth, as well as the co-dependent use of the waters in support of future development.

The Coast Guard received 11 comments in response to our Federal Register notice and other outreach efforts. All comments and supporting documents are available in a public docket and can be viewed at http://www.regulations.gov. In the “Search” box insert “USCG-2019-0862” and click “Search.” Click the “Open Docket Folder” in the “Actions” column. These comments were submitted by commercial maritime operators and state and port partners. Topics covered by these comments included support and requests for additional routing measures around WEAs, requests for collaboration with state organizations, and requests for NEPA compliance and Environmental Impact Studies to be completed. A synopsis of the comments and copies of the Coast Guard's Public outreach can be found in the report.

As a result of the data analysis within this study and considering the comments received the Coast Guard proposes five measures for consideration by the public. Any comments received will be reviewed and considered before a final version of the Approaches to Chesapeake Bay PARS is announced in the Federal Register. This notice is published under the authority of 46 U.S.C. 70004 and 5 U.S.C. 552(a).

IV. Information Requested

We encourage you to submit comments through the Federal portal at https://www.regulations.gov. In your submission, please include the docket number for this notice of inquiry and provide a reason for each suggestion or recommendation. If your material cannot be submitted using https://www.regulations.gov, contact the person in the FOR FURTHER INFORMATION CONTACT section of this document for alternate instructions.

We accept anonymous comments. Comments we post to https://www.regulations.gov will include any personal information you have provided. For more about privacy and submissions in response to this document, see DHS's eRulemaking System of Records notice (85 FR 14226, March 11, 2020).

Documents mentioned in this notice of inquiry as being available in the docket, and public comments, will be in our online docket at https://www.regulations.gov and can be viewed by following that website's instructions. We review all comments received, but we may choose not to post off-topic, inappropriate, or duplicate comments that we receive. If you visit the online docket and sign up for email alerts, you will be notified when comments are posted or if a final rule is published.

Dated: May 25, 2021.
Laura M. Dickey,
Rear Admiral, U.S. Coast Guard, Commander, Fifth Coast Guard District.

[FR Doc. 2021-12671 Filed 6-15-21; 8:45 am]

BILLING CODE 9110-04-P